MORRIS K. UDALL AND STEWART L. UDALL FOUNDATION

Agency Information Collection Activities: Proposed Collection; Comment Request

AGENCY: John S. McCain III National Center for Environmental Conflict Resolution (National Center), Morris K. Udall and Stewart L. Udall Foundation.

ACTION: Notice of information collection; request for comment.

SUMMARY: In accordance with the Paperwork Reduction Act, the Morris K. Udall and Stewart L. Udall Foundation's John S. McCain III National Center for Environmental Conflict Resolution is proposing to renew and update six ICRs. The proposed ICRs are necessary to measure, improve, and report on National Center performance and delivery of its services.

DATES: Interested persons are invited to submit comments on or before November 14, 2023.

ADDRESSES: To access and review the documents related to the ICRs listed in this notice, please visit https://www.udall.gov/ICR. You may send comments, identified by OMB Control Number, by mail to Mitch Chrismer, Morris K. Udall and Stewart L. Udall Foundation, 434 E. University Blvd., Suite 300, Tucson, AZ 85705 or by email to info@udall.gov. Please note that comments submitted by fax and those submitted after the comment period will not be accepted.

FOR FURTHER INFORMATION CONTACT: For specific questions or to request additional information about these ICRs, contact Mitch Chrismer at chrismer@udall.gov, or by telephone at 520-901-8544. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Morris K. Udall and Stewart L. Udall Foundation's National Center, in accordance with the Paperwork Reduction Act of 1995 (PRA) (44 U.S.C. 3501 et seq.), provides the general public and Federal agencies with an opportunity to comment on proposed, revised, and continuing collections of information. This helps the National Center assess the impact of its information collection requirements and minimize the public's reporting burden. It also helps the public understand the National Center's information collection requirements and provide the requested data in the desired format. The National Center is soliciting comments on six proposed ICR renewals that are described below. These ICRs are consolidated under one announcement to provide additional context for the overall scope of the National Center's information collection activities. The proposed ICRs are necessary to measure, improve, and report on National Center performance and delivery of its services. They are not expected to have a significant economic impact on respondents or to affect a substantial number of small entities. The National Center is especially interested in public comment addressing the following issues: (1) Is this collection necessary to the proper functions of the National Center; (2) will this information have practical utility; (3) is the estimate of burden accurate; (4) how might the National Center enhance the quality, utility, and clarity of the information to be collected; and (5) how might the National Center minimize the burden of this collection on the respondents, including through the use of information technology. Please note that written comments received in response to this notice will be considered public records. Also, comments submitted in response to this notice will be summarized and included in the request for the Office of Management and Budget's (OMB) approval.

Title of Collection: National Center for Environmental Conflict Resolution Assessment Evaluation—Requester Questionnaire.

OMB Control Number: 3320-0003.

Respondents/Affected Public: Individuals or households; business or other for-profit; not-for-profit; federal government; and state, local or tribal government.

Total Estimated Number of Annual Responses: 50.

Total Estimated Number of Annual Burden Hours: 4.2.

Abstract: This survey collects information on assessments conducted by the National Center. An assessment generally includes the following elements: assessing the causes of the conflict or challenge; identifying the entities and individuals who would be substantively affected by the conflict's or issue's outcome; assessing those persons' interests to identify a preliminary set of topics that they believe relevant; evaluating the feasibility of using a consensus-building or other collaborative process to address these topics; educating interested parties on collaborative processes so as to help them consider whether they want to participate; and designing the structure and membership of a collaborative process (if applicable) to address the conflict or challenge. This survey is a primary means by which the National Center evaluates its performance on this key agency activity.

Title of Collection: Mediation Services Participant Questionnaire (Agreement Seeking).

OMB Control Number: 3320-0004.

Respondents/Affected Public: Individuals or households; business or other for-profit; not-for-profit; federal government; and state, local or tribal government.

Total Estimated Number of Annual Responses: 40.

Total Estimated Number of Annual Burden Hours: 12.

Abstract: This survey collects information to evaluate mediations conducted by the National Center. Mediation is an agreement-seeking facilitated negotiation in which a skilled, impartial third party seeks to enhance negotiations between parties to a conflict or their representatives by improving communication, identifying interests, and exploring possibilities for a mutually agreeable resolution. This survey is a primary means by which the National Center evaluates its performance on this integral agency activity.

Title of Collection: Training Services Participant Questionnaire.

OMB Control Number: 3320-0006.

Respondents/Affected Public: Individuals or households; business or other for-profit; not-for-profit; federal government; and state, local or tribal government.

Total Estimated Number of Annual Responses: 600.

Total Estimated Number of Annual Burden Hours: 55.

Abstract: This survey collects information to evaluate trainings conducted by the National Center. Trainings include any session of three hours or more in the following categories: skill-building workshops requested by agencies for their staff (e.g., interest-based negotiation training for complex intergovernmental conflicts); ECCR project-specific capacity building for stakeholders (e.g., stakeholder orientations related to multiparty negotiation); and all of the Udall Foundation certificate program ECCR trainings. This survey is a primary means by which the National Center evaluates its performance on this critical agency activity.

Title of Collection: Facilitated Meeting/Workshop Services Participant Questionnaire.

OMB Control Number: 3320-0007.

Respondents/Affected Public: Individuals or households; business or other for-profit; not-for-profit; federal government; and state, local or tribal government.

Total Estimated Number of Annual Responses: 400.

Total Estimated Number of Annual Burden Hours: 33.3.

Abstract: This survey collects information to evaluate short-term (typically one-day) facilitated meetings and workshops conducted by the National Center. Facilitated meetings and workshops are a core activity of the National Center, and this survey is a primary means by which the National Center evaluates its performance on this key activity.

Title of Collection: ECR Support Services Evaluation—Requester Questionnaire.

OMB Control Number: 3320-0009.

Respondents/Affected Public: Business or other for-profit; not-for-profit; federal government; and state, local or tribal government.

Total Estimated Number of Annual Responses: 25.

Total Estimated Number of Annual Burden Hours: 2.1.

Abstract: This survey collects information to evaluate programmatic support activities conducted by the National Center, which includes assistance with designing, implementing, and/or refining federal ECCR programs; systems for handling administrative disputes; or approaches for managing environmental decision making, for example, with National Environmental Policy Act (NEPA) processes. This survey is a primary means by which the National Center collects information to evaluate its performance on key activities that fall outside of other collection instruments used by the agency.

Title of Collection: National Center for Environmental Conflict Resolution Facilitated Process Evaluation—Participant Questionnaire.

OMB Control Number: 3320-0010.

Respondents/Affected Public: Individuals or households; business or other for-profit; not-for-profit; federal government; and state, local or tribal government.

Total Estimated Number of Annual Responses: 250.

Total Estimated Number of Annual Burden Hours: 50

Abstract: This survey collects information to evaluate facilitation processes conducted by the National Center. Facilitation is a collaborative process in which a neutral seeks to assist a group of individuals or other parties to discuss constructively a number of complex, potentially controversial issues. Facilitation is a core activity of the National Center, and this survey is a primary means by which the National Center evaluates its performance on this key activity.

(20 U.S.C. 5601-5609)

Dated: September 11, 2023.
David P. Brown,
Executive Director, Morris K. Udall and Stewart L. Udall Foundation.

[FR Doc. 2023-19933 Filed 9-14-23; 8:45 am]

BILLING CODE 6820-FN-P